DEPARTMENT OF THE INTERIOR

Bureau of Land Management

[AZ-310-08-1610-DU-241A]

Notice of Intent To Amend the Kingman Resource Area, Resource Management Plan and Associated Environmental Assessment

AGENCY: Bureau of Land Management, Interior.

ACTION: Notice of intent.

SUMMARY: The Bureau of Land Management (BLM) Kingman Field Office, Kingman, Arizona, intends to amend the Kingman Resource Management Plan (RMP) with an associated Environmental Assessment (EA) and by this notice is announcing the start of the public scoping period. The Kingman RMP, approved March 1995, requires amendment in order to designate a Transportation Corridor in response to an Arizona Department of Transportation (ADOT) proposal to realign State Route 95 (SR-95).

DATES: Public scoping comments will be accepted for 30 days from the publication date of this Federal Register Notice.

ADDRESSES: You may submit comments by any of the following methods:

• E-mail: john_reid@blm.gov.

• Fax: 928-718-3761.

• Mail: Ruben Sanchez, Field Manager, BLM , Kingman Field Office, 2755 Mission Boulevard, Kingman, Arizona 86401.

Documents pertinent to this proposal may be examined at the Kingman Field Office.

FOR FURTHER INFORMATION: For further information and/or to have your name added to our mailing list, contact John Reid, Environmental Protection Specialist, Kingman Field Office, telephone (928) 718-3735; e-mail john_reid@blm.gov.

SUPPLEMENTARY INFORMATION: This document provides notice that the BLM Kingman Field Office, Kingman, Arizona, intends to amend the Kingman RMP with an associated EA and announces the public scoping period.

The proposed location for the Transportation Corridor would be within Gila and Salt River Meridian, Mohave County, Arizona: T. 16N., R.20 W.; T. 17 N., R. 20 W.; T. 17 N., R. 21 W.; T. 19 N., R. 21 W.; and, T. 21 N., R. 20 W. The area described contains about 776 acres in Mohave County, Arizona. The amendment will fulfill the needs and obligations set forth by the National Environmental Policy Act (NEPA), the Federal Land Policy and Management Act (FLPMA), and BLM management policies. The BLM will work collaboratively with interested parties to identify the management decisions that are best suited to local, regional, and national needs and concerns.

The purpose of the public scoping process is to determine relevant issues that will influence the scope of the environmental analysis and alternatives. You may submit comments on issues to the BLM using one of the methods listed in the ADDRESSES section above. To be most helpful, please submit formal scoping comments within 30 days after publication of this notice. Comments received after conclusion of the 30-day period will be considered, but may not be addressed in the EA. Before including your address, phone number, e-mail address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed.

Preliminary issues and management concerns have been identified by BLM personnel, other agencies, and in meetings with individuals and user groups. They represent the BLM's knowledge to date regarding the existing issues and concerns with current land management. The major issues identified thus far that will be addressed include:

• Land Tenure adjustments;

• Cultural Resources management;

• Visual Resource management;

• Special Status Species management;

• Wild and Free Roaming Horse and Burro management; and,

• Resource Access and Travel Management.

In addition to these major issues, a number of management questions and concerns will be addressed in the RMP amendment. The public is encouraged to help identify these questions and concerns during the scoping phase.

The Federal Highway Administration is in the process of developing an EIS that will analyze project specific effects. Following the preparation of the EIS there will be further opportunities for public involvement and comment.

Authority: 43 CFR 2809.

Dated: July 2, 2008.
Ruben A. Sánchez,
Kingman Field Office Manager.

[FR Doc. E8-16082 Filed 7-14-08; 8:45 am]

BILLING CODE 4310-32-P